OVERSEAS PRIVATE INVESTMENT CORPORATION

October 30, 2003 Board of Directors Meeting; Sunshine Act Meeting

Time and Date: Thursday, October 30, 2003, 1:30 p.m. (open portion) 1:45 p.m. (closed portion).

Place: Offices of the Corporation, Twelfth Floor Board Room, 1100 New York Avenue, NW., Washington, DC.

Status: Meeting open to the Public from 1:30 p.m. to 1:45 p.m. Closed portion will commence at 1:45 p.m (approx.).

Matters To Be Considered: 1. President's report.

2. Approval of July 17, 2003 minutes (open portion).

Further Matters To Be Considered: (Closed to the Public 1:45 p.m.)

1. Finance project—Global.

2. Finance project—Global.

3. Finance project in South Africa.

4. Insurance project in Brazil.

5. Insurance project in Azerbaijan, Georgia & Turkey.

6. Approval of July 17, 2003 minutes (closed portion).

7. Approval of October 15, 2003 minutes (closed portion).

8. Pending major projects.

9. Reports.

FOR FURTHER INFORMATION CONTACT: Information on the meeting may be obtained from Connie M. Downs at (202) 336-8438.

Dated: October 17, 2003.
Connie M. Downs,
Corporate Secretary, Overseas Private Investment Corporation.

[FR Doc. 03-26616 Filed 10-17-03; 9:53 am]

BILLING CODE 3210-01-M